DEFENSE NUCLEAR FACILITIES SAFETY BOARD

Sunshine Act Notice

AGENCY: Defense Nuclear Facilities Safety Board.

ACTION: Notice of public meeting.

SUMMARY: Pursuant to the provisions of the “Government in the Sunshine Act” (5 U.S.C. 552b), notice is hereby given of the Defense Nuclear Facilities Safety Board's (Board) public hearing and meeting described below. The Board will conduct a public hearing and meeting pursuant to 42 U.S.C. 2286b and invites any interested persons or groups to present any comments, technical information, or data concerning safety issues related to the matters to be considered.

Time and Date of Meeting: 9 a.m., December 5, 2008.

Place: Defense Nuclear Facilities Safety Board, Public Hearing Room, 625 Indiana Avenue, NW., Suite 300, Washington, DC 20004-2001. Additionally, as a part of the Board's E-Government initiative, the meeting will be presented live through Internet video streaming. A link to the presentation will be available on the Board's Web site (http://www.dnfsb.gov).

Status: Open. While the Government in the Sunshine Act does not require that the scheduled discussion be conducted in a meeting, the Board has determined that an open meeting in this specific case furthers the public interests underlying both the Sunshine Act and the Board's enabling legislation.

Matters to be Considered: This public hearing and meeting is the fourth in a series concerning the Department of Energy's (DOE) and National Nuclear Security Administration's (NNSA) incorporation of safety into the design and construction of new DOE defense nuclear facilities and into major modification of existing facilities. The Board is responsible, pursuant to its statutory charter, to review and evaluate the content and implementation of standards relating to the design and construction of such facilities. This public hearing and meeting is a continuation of the Board's interest in integrating safety early into the design process. During the Board's initial public hearing on this subject on December 7, 2005, the Board focused on the adequacy of DOE's existing directives related to the design of new facilities. In preparation for that hearing, DOE outlined its expectations for integrating safety into design and established a framework for achieving needed improvements. During the second public hearing on July 19, 2006, the Board further explored integration of safety into design and the progress being made in implementing DOE's safety in design initiatives. During the third public hearing and meeting on March 27, 2007, the Board considered early issue identification, communication of Board issues to DOE, issue management, and early resolution and closure of design related safety issues. The third hearing also addressed the implementation status of DOE Order 413.3, Program and Project Management for the Acquisition of Capital Assets, DOE Standard (STD)-1189, Integration of Safety into the Design Process, the revision of DOE Manual 413.3-1, and lessons learned with respect to incorporating safety in design at two major Federal projects, the Waste Treatment Plant (WTP) project and the Chemistry and Metallurgy Research Replacement (CMRR) project. This fourth public hearing and meeting will consider implementation of the revised DOE Order 413.3, the related guidance contained in DOE-STD-1189, and commitments made in the July 19, 2007, joint DOE and Board report to Congress titled, Improving the Identification and Resolution of Safety Issues During the Design and Construction of DOE Defense Nuclear Facilities, as those commitments relate to early issue identification, communication of Board issues to DOE, issue management, and early resolution and closure of design related safety issues. This hearing and meeting is intended to further assist the Board and DOE in their collective efforts to evaluate any needed improvements in the timeliness of issue resolution. The Board again expects to hear presentations from both DOE and NNSA senior management officials concerning integration of safety into design. The Board may also collect any other information relevant to health or safety of the workers and the public, with respect to safety in design, that may warrant Board action. The public hearing portion of this proceeding is authorized by 42 U.S.C. 2286b.

Contact Person for More Information: Brian Grosner, General Manager, Defense Nuclear Facilities Safety Board, 625 Indiana Avenue, NW., Suite 700, Washington, DC 20004-2901, (800) 788-4016. This is a toll-free number.

SUPPLEMENTARY INFORMATION: Requests to speak at the hearing may be submitted in writing or by telephone. The Board asks that commentators describe the nature and scope of their oral presentation. Those who contact the Board prior to close of business on December 4, 2008, will be scheduled for time slots, beginning at approximately 12 p.m. The Board will post a schedule for those speakers who have contacted the Board before the hearing. The posting will be made at the entrance to the Public Hearing Room at the start of the 9 a.m. hearing and meeting. Anyone who wishes to comment or provide technical information or data may do so in writing, either in lieu of, or in addition to, making an oral presentation. The Board Members may question presenters to the extent deemed appropriate. Documents will be accepted at the meeting or may be sent to the Board's Washington, DC office. The Board will hold the record open until January 6, 2009, for the receipt of additional materials. A transcript of the meeting will be made available by the Board for inspection by the public at the Board's Washington office and at DOE's public reading room at the DOE Federal Building, 1000 Independence Avenue, SW., Washington, DC 20585. The Board specifically reserves its right to further schedule and otherwise regulate the course of the meeting and hearing, to recess, reconvene, postpone, or adjourn the meeting and hearing, conduct further reviews, and otherwise exercise its power under the Atomic Energy Act of 1954, as amended.

Dated: October 31, 2008.
A.J. Eggenberger,
Chairman.

[FR Doc. E8-26512 Filed 11-3-08; 4:15 pm]

BILLING CODE 3670-01-P